DEPARTMENT OF DEFENSE

Department of the Army

Corps of Engineers

Intent To Prepare A Draft Environmental Impact Statement (DEIS) for Navigation Improvements at Unalaska, AK

AGENCY: U.S. Army Corps of Engineers, DoD.

ACTION: Notice of intent.

SUMMARY: The U.S. Army Corps of Engineers, Alaska District, intends to prepare a DEIS for navigation improvements at Unalaska, Alaska. The city of Unalaska, population 4,283, is on Unalaska and Amaknak Islands in the Aleutian Island chain, about 800 miles (1,300 kilometers) southwest of Anchorage, Alaska. Unalaska's economy is based on commercial fishing, fish processing, and fleet services including fuel, repairs and maintenance, trade and transportation. Unalaska has been ranked as the number one port in the nation for seafood volume and value for the past 11 years. The proposed navigation improvements are needed to provide adequate moorage for transient vessels and the Unalaska fleet. Additional moorage would reduce overcrowded conditions at the existing facilities by providing a safer and more efficient moorage area.

FOR FURTHER INFORMATION CONTACT: Bill Abadie (907) 753-2736, Alaska District Corps of Engineers, Environmental Resources Section (CEPOA-EN-CW-ER), P.O. Box 898, Anchorage, AK 99506-0898. E-mail: william.d.abadie@ poa02.usace.army.mil.

SUPPLEMENTARY INFORMATION: An environmental assessment (EA) was prepared titled “Navigation Improvements, Draft Feasibility Report, Environmental Assessment and Finding of No Significant Impact” dated August 2001. The U.S. Army Corps of Engineers subsequently concluded that the action would be a major Federal action that could significantly affect the quality of the human environment. The finding of no significant impact was not signed and a DEIS will be prepared. The DEIS will consider structural and non-structural alternatives including the construction of a breakwater, a dredged basin, and harbor related infrastructure. The August 2001 EA evaluated four alternatives in detail: Alternative 1—Dutch Harbor Site (Spit Site), Alternative 2A—Little South America Site (combination of floating and rubblemound breakwaters), Alternative 2B—Little South America (identical to Alternative 2A except a wave barrier was substituted for the north floating breakwater), and Alternative 3—Captains Bay site (Westward Seafoods Site). Other harbor locations and non-structural alternatives identified during the scoping process will be evaluated.

Issues

The DEIS will consider the needs of the community and commercial vessel operations, impacts to marine intertidal and subtidal communities, fish and wildlife, wetlands, threatened and endangered species, essential fish habitat, water quality, cultural resources, socio-economic resources, the need for practicable and justifiable mitigation, and other resources and concerns identified through scoping, public involvement, and interagency coordination.

Scoping

A copy of this notice and additional public information will be sent to interested parties to initiate scoping. All parties are invited to participate in the scoping process by identifying any additional concerns, issues, studies, and alternatives that should be considered. A scoping meeting will be held in Unalaska at the Grand Aleutian Hotel on Saturday, February 2, 2002, from 10 a.m. to 2 p.m. Significant issues include potential adverse impacts to Steller's eiders, a threatened species, and the justification and identification of compensatory mitigation. The DEIS is tentatively scheduled for release in June 2003.

Luz D. Ortiz,
Army Federal Register Liaison Officer.

[FR Doc. 01-29786 Filed 11-29-01; 8:45 am]

BILLING CODE 3710-NL-M